DEPARTMENT OF DEFENSE

Department of the Army

Intent To Grant an Exclusive License of a U.S. Government-Owned Patent

AGENCY: Department of the Army, DoD.

ACTION: Notice.

SUMMARY: In accordance with 35 U.S.C. 209(e) and 37 CFR 404.7(a)(I)(i), announcement is made of the intent to grant an exclusive, royalty-bearing, revocable license to U.S. patent number 6,387,665 issued May 14, 2002 entitled “Method of Making a Vaccine for Anthrax,” and U.S. patent number 6,316,006 issued November 13, 2001 entitled “Asporogenic B. Anthracis Expression System” to VaxGen, Inc. with its principal place of business at 1000 Marina Blvd., Suite 200, Brisbane, Ca 94005. The exclusive field of use will be in field of preventive vaccines against anthrax infection.

DATES: File written objections by January 14, 2003.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Anyone wishing to object to the grant of this license can file written objections along with supporting evidence, if any, within 15 days from the date of this publication. Written objections are to be filed with the Command Judge Advocate (see addresses).

Luz D. Ortiz,
Army Federal Register Liaison Officer.

[FR Doc. 02-32812 Filed 12-27-02; 8:45 am]

BILLING CODE 3710-08-M